DEPARTMENT OF HEALTH AND HUMAN SERVICES

Centers for Disease Control and Prevention

Interagency Task Force on Antimicrobial Resistance (ITFAR): An Update on A Public Health Action Plan to Combat Antimicrobial Resistance

AGENCY: Centers for Disease Control and Prevention (CDC), Department of Health and Human Services (HHS).

ACTION: Notice of public meeting and request for comments.

SUMMARY: The Centers for Disease Control and Prevention (CDC), Food and Drug Administration (FDA), and National Institutes of Health (NIH) announce an open meeting concerning antimicrobial resistance. The purpose of the meeting is to present the annual report on progress by Federal agencies in accomplishing activities outlined in A Public Health Action Plan to Combat Antimicrobial Resistance (Action Plan) and solicit comments from the public regarding ITFAR activities including the Annual Progress Report and the Action Plan. The meeting will take place at the Hubert H. Humphrey Building in Washington, DC on Tuesday, November 15, 2011 from 1 p.m.-3:30 p.m. The agenda will consist of welcome and introductory comments, a review of the Action Plan status and plans to update it; and reports of the progress toward implementing the Action Plan in each of the four focus areas: Surveillance, Prevention and Control, Research, and Product Development. The agenda is subject to change without notice. The meeting will then be open for comments from the general public. Persons wishing to participate, including those who wish to make an oral presentation, must register in advance and provide a copy of their presentation by noon Tuesday, November 8, 2011.

DATES: A public meeting will be held in Washington, DC, on Tuesday, November 15, 2011. The meeting will begin at 1 p.m. and end no later than 3:30 p.m.

Deadline for Registration for all Attendees: All attendees must register by noon, Tuesday, November 8, 2011.

Deadline for Requests for Special Accommodation: Requests for special accommodation should be submitted by noon, Tuesday, November 8, 2011.

ADDRESSES: Department of Health and Human Services, Hubert H. Humphrey Building, Room 800, 200 Independence Avenue, SW., Washington, DC USA 20201; http://www.hhs.gov/about/hhhmap.html. Toll Free: 1-877-696-6775.

Participants should be aware that the meeting is being held in a Federal government building; therefore, Federal security measures are applicable.

FOR FURTHER INFORMATION CONTACT: Marsha A. Jones, Office of Antimicrobial Resistance, Centers for Disease Control and Prevention, 1600 Clifton Road, NE., Mailstop A-28, Atlanta, GA 30333; telephone 404-639-4111; E-mail MJones@cdc.gov.

Submission of Written Comments: Written comments and supporting documentation can be e-mailed to ARplancomments@cdc.gov or sent via regular mail to Marsha Jones, Office of Antimicrobial Resistance, Centers for Disease Control and Prevention, 1600 Clifton Road, NE., Mailstop A-28, Atlanta, GA 30333.

Registration and Special Accommodations: Individuals wishing to participate or who need special accommodations or both must register at ARplancomments@cdc.gov or by contacting Marsha Jones at MJones@cdc.gov. See Registration to Attend and/or Participate in the Public Hearing for instructions on how to submit electronic notices of participation.

SUPPLEMENTARY INFORMATION:

1. Background

The Interagency Task Force on Antimicrobial Resistance (ITFAR) was created in 1999 to coordinate the activities of federal agencies in addressing antimicrobial resistance (AR) in recognition of the increasing importance of AR as a public health threat. The Task Force is co-chaired by the Centers for Disease Control and Prevention (CDC), the Food and Drug Administration (FDA), and the National Institutes of Health (NIH). Other Task Force members include the Agency for Healthcare Research and Quality (AHRQ), the Centers for Medicare and Medicaid Services (CMS), the Health Resources and Services Administration (HRSA), and the HHS Office of the Assistant Secretary for Preparedness and Response (HHS/ASPR), the Department of Agriculture (USDA), the Department of Defense (DoD), the Department of Veterans Affairs (VA), and the Environmental Protection Agency (EPA).

In 2001, the ITFAR developed an initial Action Plan to combat antimicrobial resistance. In 2011, a revised version of the Action Plan which addresses the evolving threat of antimicrobial resistance was published. This Plan is entitled A Public Health Action Plan to Combat Antimicrobial Resistance and it outlines specific goals, actions, and implementation steps important for addressing the problem of antimicrobial resistance. Action items are organized into four focus areas: Surveillance, Prevention and Control, Research, and Product Development. The Action Plan and Annual Report are available at http://www.cdc.gov/drugresistance.

2. Public Comment and Meeting

The public meeting process provides an opportunity for the public to become aware of and comment on the activities of the ITFAR to date. In addition, the ITFAR invites written comments and/or oral presentations of interested persons on the Annual Report as well as the four focus areas of the Action Plan: Surveillance, Prevention and Control, Research, and Product Development.

Written comments regarding ITFAR activities including the Annual Progress Report and the Action Plan submitted by e-mail should use the following subject line “ITFAR Comments.” Written comments submitted by regular mail should clearly identify “ITFAR Comments” as the subject.

Comments and suggestions from the public for Federal agencies related to the Annual Report and/or any of the focus areas of the Action Plan will be taken under advisement by the Antimicrobial Resistance Interagency Task Force. The agenda does not include development of consensus positions, guidelines, or discussions or endorsement of specific commercial products.

3. Registration to Attend and/or Participate in the Public Meeting

To ensure there is sufficient room we ask that you pre-register. Seating capacity is limited to 200 persons. If you wish to make an oral presentation during the open public comment period of the hearing, state your intention to present on your registration submission. To register, please send an electronic mail message to ARplancomments@cdc.gov by the deadline listed under DATES. Your email should include your name and email address. Please submit a written statement at the time of registration, identifying each focus area you wish to address and the approximate time requested to make your presentation. Organizations should provide this information as well as the names and e-mail addresses of all participants. Registered individuals will be notified of the approximate time scheduled for their presentation prior to the meeting. The time allotted for presentations will be limited to 5 minutes. If the number of proposed presentations exceeds the time allotted for public comment, opportunity for oral presentations would be limited to the first registered requestors. All other comments may be submitted in writing.

4. Building and Security Guidelines

The Hubert H. Humphrey Building is the headquarters of the U.S. Department of Health and Human Services located at the foot of Capitol Hill at 200 Independence Avenue, SW., Washington, DC 20201. HHS headquarters is served by Metrorail and Metrobus. The closest Metrorail station is the Federal Center SW., station, which is served by the Blue and Orange lines.

The meeting is being held in a Federal government building; therefore, Federal security measures are applicable. In planning your arrival time, please take account of the need to clear security. All visitors must enter through the HHS Hubert H. Humphrey Building main entrance and must present government-issued photo identification (e.g., a valid federal identification badge, state driver's license, state non-driver's license, or passport). All persons entering the building must pass through a metal detector. Visitors are issued a visitor's ID wrist band in the main lobby and are escorted in groups of five to the meeting room. All items brought to HHS are subject to inspection.

Dated: October 7, 2011.
James W. Stephens,
Director, Office of Science Quality, Office of the Associate Director for Science, Centers for Disease Control and Prevention.

[FR Doc. 2011-26562 Filed 10-13-11; 8:45 am]

BILLING CODE 4163-18-P